DEPARTMENT OF DEFENSE

Office of the Secretary

[Docket ID DOD-2010-OS-0168]

Privacy Act of 1974; System of Records

AGENCY: Defense Intelligence Agency, DoD.

ACTION: Notice to delete a system of records.

SUMMARY: The Defense Intelligence Agency proposes to delete a system of records notice in its existing inventory of records systems subject to the Privacy Act of 1974, (5 U.S.C. 552a), as amended.

DATES: This proposed action will be effective without further notice on January 26, 2011 unless comments are received which result in a contrary determination.

ADDRESSES: You may submit comments, identified by dock number and/RIN number and title, by any of the following methods:

• Federal Rulemaking Portal: http://www.regulations.gov. Follow the instructions for submitting comments.

• Mail: Federal Docket Management System Office, Room 3C843, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: DIA Privacy Act Coordinator, Records Management Section, 200 MacDill Blvd., Washington, DC 20340, or Ms. Theresa Lowery at (202) 231-1193.

SUPPLEMENTARY INFORMATION: The Defense Intelligence Agency systems of records notices subject to the Privacy Act of 1974, (5 U.S.C. 552a), as amended, have been published in the Federal Register and are available from the FOR FURTHER INFORMATION CONTACT address above.

The specific changes to the record system being amended are set forth below followed by the notice, as amended, published in its entirety. The proposed amendment is not within the purview of subsection (r) of the Privacy Act of 1974 (5 U.S.C. 552a), as amended, which requires the submission of new or altered systems reports.

Dated: December 14, 2010.
Morgan F. Park,
Alternate OSD Federal Register Liaison Officer, Department of Defense.

Deletions:

DCIFA 01

System name:

CIFA Operational and Analytical Records (February 25, 2005, 70 FR 9281).

Reason: The records collected and maintained in this system are covered under Ldia 10-0002, Intelligence/Counterintelligence/Operation Record System (June 15, 2010, 75 FR 33791).

[FR Doc. 2010-32400 Filed 12-23-10; 8:45 am]

BILLING CODE 5001-06-P